POSTAL SERVICE

Board of Governors; Sunshine Act Meeting

Board Votes To Close March 6, 2007, Meeting

At its teleconference meeting on February 27, 2007, the Board of Governors of the United States Postal Service voted unanimously to close to public observation its meeting scheduled for March 6, 2007, in Washington, DC, via teleconference. The Board determined that prior public notice was not possible.

Item Considered: Postal Regulatory Commission Opinion and Recommended Decision in Docket No. R2006-1, Postal Rate and Fee Changes.

General Counsel Certification: The General Counsel of the United States Postal Service has certified that the meeting was properly closed under the Government in the Sunshine Act.

Contact Person for More Information: Requests for information about the meeting should be addressed to the Secretary of the Board, Wendy A. Hocking, at (202) 268-4800.

Wendy A. Hocking,
Secretary.

[FR Doc. 07-1234 Filed 3-12-07; 3:49 pm]

BILLING CODE 7710-12-M